DEPARTMENT OF ENERGY

Federal Energy Regulatory Commission

Combined Notice Of Filings #1

Take notice that the Commission received the following exempt wholesale generator filings:

Docket Numbers: EG20-235-000.

Applicants: Crescent Wind LLC.

Description: Notice of Self-Certification of Exempt Wholesale Generator Status of Crescent Wind LLC.

Filed Date: 8/20/20.

Accession Number: 20200820-5038.

Comments Due: 5 p.m. ET 9/10/20.

Docket Numbers: EG20-236-000.

Applicants: Contrail Wind Project, LLC.

Description: Notice of Self-Certification of Exempt Wholesale Generator Status of Contrail Wind Project, LLC.

Filed Date: 8/20/20.

Accession Number: 20200820-5044.

Comments Due: 5 p.m. ET 9/10/20.

Take notice that the Commission received the following electric rate filings:

Docket Numbers: ER15-2115-007.

Applicants: Southwest Power Pool, Inc.

Description: Compliance filing: Northwest Iowa Power Cooperative Formula Rate Compliance Filing to be effective 10/1/2015.

Filed Date: 8/20/20.

Accession Number: 20200820-5065.

Comments Due: 5 p.m. ET 9/10/20.

Docket Numbers: ER19-1506-004.

Applicants: Minonk Wind, LLC.

Description: Compliance filing: Approved Offer of Settlement Effective Date to be effective 6/1/2019.

Filed Date: 7/23/20.

Accession Number: 20200723-5024.

Comments Due: 5 p.m. ET 9/10/20.

Docket Numbers: ER20-17-003.

Applicants: Tenaska Pennsylvania Partners, LLC.

Description: Compliance filing: Reactive Service Rate Schedule Compliance Filing to be effective 11/1/2019.

Filed Date: 8/20/20.

Accession Number: 20200820-5097.

Comments Due: 5 p.m. ET 9/10/20.

Docket Numbers: ER20-2010-001.

Applicants: Horizon West Transmission, LLC.

Description: Request for Administrative Cancellation of eTariff Record of Horizon West Transmission, LLC.

Filed Date: 8/19/20.

Accession Number: 20200819-5117.

Comments Due: 5 p.m. ET 9/9/20.

Docket Numbers: ER20-2239-000.

Applicants: Southwest Power Pool, Inc.

Description: Conditional Motion for Shortened Comment Period and, Supplemental Comments of Kansas Power Pool to provide clarification, et al. for Commission consideration.

Filed Date: 8/19/20.

Accession Number: 20200819-5125.

Comments Due: 5 p.m. ET 8/26/20.

Docket Numbers: ER20-2698-000.

Applicants: Midcontinent Independent System Operator, Inc.

Description: § 205(d) Rate Filing: 2020-08-20_SA 3548 OTP-Emmons-Logan Wind FSA (J302 J503 Hankinson-Ellendale) to be effective 9/1/2020.

Filed Date: 8/20/20.

Accession Number: 20200820-5014.

Comments Due: 5 p.m. ET 9/10/20.

Docket Numbers: ER20-2699-000.

Applicants: Southwest Power Pool, Inc.

Description: § 205(d) Rate Filing: Revisions to Remove Requirement to List Maximum Net Dependable Capacity to be effective 11/1/2020.

Filed Date: 8/20/20.

Accession Number: 20200820-5015.

Comments Due: 5 p.m. ET 9/10/20.

Docket Numbers: ER20-2700-000.

Applicants: Deuel Harvest Wind Energy LLC.

Description: Baseline eTariff Filing: Application for Market-Based Rate Authorization to be effective 10/20/2020.

Filed Date: 8/20/20.

Accession Number: 20200820-5021.

Comments Due: 5 p.m. ET 9/10/20.

Docket Numbers: ER20-2702-000.

Applicants: Crescent Wind LLC.

Description: Baseline eTariff Filing: Application for Market-Based Rate Authorization to be effective 10/20/2020.

Filed Date: 8/20/20.

Accession Number: 20200820-5035.

Comments Due: 5 p.m. ET 9/10/20.

Docket Numbers: ER20-2703-000.

Applicants: AEP Texas Inc.

Description: § 205(d) Rate Filing: AEPTX-Tres Bahias Generation Interconnection Agreement to be effective 8/7/2020.

Filed Date: 8/20/20.

Accession Number: 20200820-5037.

Comments Due: 5 p.m. ET 9/10/20.

Docket Numbers: ER20-2704-000.

Applicants: Contrail Wind Project, LLC.

Description: Baseline eTariff Filing: Application for Market-Based Rate Authorization to be effective 10/20/2020.

Filed Date: 8/20/20.

Accession Number: 20200820-5042.

Comments Due: 5 p.m. ET 9/10/20.

Docket Numbers: ER20-2705-000.

Applicants: Mankato Energy Center, LLC.

Description: § 205(d) Rate Filing: Notice of Non-Material Change in Status and Revised MBR Tariff to be effective 7/21/2020.

Filed Date: 8/20/20.

Accession Number: 20200820-5080.

Comments Due: 5 p.m. ET 9/10/20.

Docket Numbers: ER20-2706-000.

Applicants: Mankato Energy Center II, LLC.

Description: § 205(d) Rate Filing: Notice of Non-Material Change in Status and Revised MBR Tariff to be effective 7/21/2020.

Filed Date: 8/20/20.

Accession Number: 20200820-5084.

Comments Due: 5 p.m. ET 9/10/20.

Docket Numbers: ER20-2707-000.

Applicants: Southwest Power Pool, Inc.

Description: § 205(d) Rate Filing: Blackberry Substation Upgrade Cost and Usage Agreement (Part 1 of 2) to be effective 10/20/2020.

Filed Date: 8/20/20.

Accession Number: 20200820-5094.

Comments Due: 5 p.m. ET 9/10/20.

Docket Numbers: ER20-2708-000.

Applicants: Southwest Power Pool, Inc.

Description: § 205(d) Rate Filing: Blackberry Substation Upgrade Cost and Usage Agreement (Part 2 of 2) to be effective 10/20/2020.

Filed Date: 8/20/20.

Accession Number: 20200820-5095.

Comments Due: 5 p.m. ET 9/10/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 20, 2020.
Nathaniel J. Davis, Sr.,
Deputy Secretary.

[FR Doc. 2020-18731 Filed 8-25-20; 8:45 am]

BILLING CODE 6717-01-P